DEPARTMENT OF HEALTH AND HUMAN SERVICES

Administration for Children and Families

Proposed Information Collection Activity; Comment Request

Proposed Projects:

Title: Evaluation of Child Care Subsidy Strategies.

OMB No.: New Collection.

Description: To conduct four experiments to test aspects of the child care subsidy system. Two simultaneous experiments will occur in Cook County, Illinois; one will occur in Washington State; and one will occur in Massachusetts.

Illinois. The State of Illinois has agreed to conduct two simultaneous experiments, which will occur in Cook County. The first will test the impact of receiving a child care subsidy on parental employment and income, and on the stability of child care arrangements; the second experiment will test the impact of losing a subsidy on the same set of outcomes. For the first experiment, families with incomes above the current income eligibility ceiling who apply for subsidies will be approved to receive subsidies. In the second experiment, families in the treatment group with incomes above the eligibility ceiling who apply to be recertified to continue using subsidies will remain eligible. In addition, each experiment will test the effects of a longer certification period by certifying eligibility for some families for six months and other families for one year. Families in the two treatment groups will retain eligibility for subsidies over the two-year study period, provided their income remains below the experimental limit and they comply with other requirements (e.g., continue to work). Outcomes will be measured through administrative records and periodic interviews with parents.

Washington. In Washington State, the study will test a co-payment schedule that smoothes out what are currently abrupt increases in co-payments that occur when a family moves from one income category to the next and reduces the co-payment burden for many families. Families that apply (or reapply) for subsidies and are determined to be eligible under current rules will be randomly assigned to the experimental co-payment schedule or the existing schedule. (Families with co-payments from the experimental schedule will either pay the same amount, or less, than families whose co-payments are calculated using the existing schedule.) Families will retain the same co-payment schedule for two years, provided they continue to be eligible for subsidies. Outcomes will be measured through analysis of administrative data and periodic interviews with parents.

Massachusetts. In Massachusetts, the study is an experimental test of the effectiveness of a developmental curriculum implemented in family child care homes. Family child care providers who serve subsidized and other low-income children and are linked to family child care networks will be randomly assigned to a treatment or control group. Providers in the treatment group will use the developmental curriculum and be trained through regular visits to the home by specially trained mentors. These providers will receive materials to use with children from 0 to 5 years of age. Providers in the control group will receive the more general technical assistance and support visits that they currently receive. Impacts on provider behavior and the home environment will be measured through direct observations in the homes. Child assessments will be conducted through provider reports for the younger children and through standardized tests for children 30 months and older.

Respondents: Illinois. Parents who apply (or reapply) for subsidies and are eligible and agree to be in the study will be interviewed by telephone up to three times in the 24 months after they enter the study.

Washington State. Parents who apply (or reapply) for subsidies and are eligible and agree to be in the study will be interviewed by telephone up to three times over the 24 months of the study. Approximately 30 state employees working at the Department of Health and Human Services in the Division of Child Care and Early Learning or the Division of Community Service will be interviewed as part of the implementation study.

Massachusetts. Children will be assessed 7 months after implementing the curriculum, after 11 months, and after 23 months. Providers will be asked to respond to a brief survey 7 and 23 months after the study begins.

Annual Burden Estimates
Instrument | Number of respondents | Number of responses per respondent | Average burden hours per response | Total burden hours
Illinois parent survey | 5,000 | 1.5 | .58 | 4,350
Washington parent survey | 2,000 | 1.5 | .58 | 1,740
Washington process study interview | 30 | .5 | .5 | 8
Massachusetts child assessments | 700 | 1.5 | .5 | 525
Massachusetts provider questionnaire | 350 | 1 | .16 | 56

Estimated Total Annual Burden Hours: 6,679.

In compliance with the requirements of Section 3506(c)(2)(A) of the Paperwork Reduction Act of 1995, the Administration for Children and Families is soliciting public comment on the specific aspects of the information colleciton described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: September 15, 2005.
Robert Sargis,
Reports Clearance, Officer.

[FR Doc. 05-18771 Filed 9-20-05; 8:45 am]

BILLING CODE 4184-01-M